DEPARTMENT OF VETERANS AFFAIRS

President's Task Force To Improve Health Care Delivery for Our Nation's Veterans; Notice of Meeting

The Department of Veterans Affairs (VA) gives notice under Public Law 92-463 that a meeting of the President's Task Force to Improve Health Care Delivery for Our Nation's Veterans will take place on Wednesday, September 12, 2001. The meeting will be held in the Polaris Room at the Ronald Reagan International Trade Center, 1300 Pennsylvania Avenue, NW., Washington, DC. The meeting will convene at 8:30 a.m., adjourn at 5:30 p.m. and is open to the general public.

The purpose of the President's Task Force to Improve Health Care Delivery for Our Nation's Veterans is to:

(a) Identify ways to improve benefits and services for Department of Veterans Affairs (VA) beneficiaries and for Department of Defense (DoD) military retirees who are also eligible for benefits from VA, through better coordination of the activities of the two departments;

(b) Review barriers and challenges that impede VA and DoD coordination, including budgeting processes, timely billing, cost accounting, information technology, and reimbursement. Identify opportunities to improve such business practices to ensure high quality and cost effective health care; and

(c) Identify opportunities for improved resource utilization through partnership between VA and DoD to maximize the use of resources and infrastructure, including: buildings, information technology and data sharing systems, procurement of supplies, equipment and services, and delivery of care.

The meeting will commence with the formal administration of the oath to the appointed Task Force members followed by further introductions and discussion of administrative and substantive issues. Such issues will include dates and locations of future meetings, potential topics and similar matters pertaining to the official organization and charge of the Task Force.

The VA and DoD will separately brief the Task Force on existing VA-DoD joint-venture initiatives and other practices currently being undertaken within VA and DoD concerning the Task Force's designated mission under Executive Order 13214.

Representatives of the General Accounting Office (GAO) will provide a synopsis of their findings from GAO's studies of VA-DoD joint ventures and opportunities for sharing initiatives.

Task Force members will conduct brief question and answer sessions with VA, DoD and GAO officials following their respective presentations.

Interested parties can provide written comments to Mr. Richard Larson, Staff Assistant, Department of Veterans Affairs, Office of the Secretary, 810 Vermont Avenue, NW., Washington, DC 20420.

Dated: August 24, 2001.
By Direction of the Secretary.
Nora E. Egan,
Committee Management Officer.

[FR Doc. 01-21805 Filed 8-28-01; 8:45 am]

BILLING CODE 8320-01-M